NUCLEAR REGULATORY COMMISSION

[Docket Nos. 50-247-OLA; ASLBP No. 02-798-01-OLA]

Entergy Nuclear Indian Point 2, LLC, and Entergy Nuclear Operations, Inc., Indian Point Nuclear Generating Unit No. 2; Establishment of Atomic Safety and Licensing Board

Pursuant to delegation by the Commission dated December 29, 1972, published in the Federal Register, 37 FR 28,710 (1972), and §§ 2.105, 2.700, 2.702, 2.714, 2.714a, 2.717, 2.721, and 2.772(j) of the Commission's regulations, all as amended, an Atomic Safety and Licensing Board is being established to preside over the following proceeding:

Entergy Nuclear Indian Point 2, LLC, and

Entergy Nuclear Operations, Inc.

Indian Point Neclear Generating Unit No. 2

This Board is being established pursuant to a notice of consideration of issuance of operating license amendment, proposed no significant hazards consideration determination, and opportunity for a hearing published in the Federal Register (66 FR 44,161, 44,165 (Aug. 22, 2001)). The proceeding involves a petition for leave to intervene and request for a hearing submitted March 18, 2002, by Riverkeeper, Inc., challenging a July 13, 2001 request by then-licensee Consolidated Edison Company of New York, Inc., to amend the operating license for the Indian Point Nuclear Generating Unit No. 2. (By order dated August 27, 2001, the agency approved a license transfer request regarding Indian Point Nuclear Generating Unit No. 2 that made Entergy Nuclear Indian Point 2, LLC, the facility owner and Entergy Nuclear Operations, Inc., its licensed operator.) The amendment would make a change to the facility technical specifications to increase the interval for the Type A containment integrated leak rate test from at least once per ten years to once per fifteen years, albeit applicable only to the interval following the last Type A test, which was satisfactorily performed in June 1991.

The Board is comprised of the following administrative judges:

Michael C. Farrar, Chair, Atomic Safety and Licensing Board Panel, U.S. Nuclear Regulatory Commission Washington, DC 20555-0001.

Dr. Richard F. Cole, Atomic Safety and Licensing Board Panel, U.S. Nuclear Regulatory Commission, Washington, DC 20555-0001.

Dr. Charles N. Kelber, Atomic Safety and Licensing Board Panel, U.S. Nuclear Regulatory Commission, Washington, DC 20555-0001.

All correspondence, documents, and other materials shall be filed with the administrative judges in accordance with 10 CFR 2.701.

Issued at Rockville, Maryland, this twelfth day of April, 2002.
G. Paul Bollwerk III,
Chief Administrative Judge, Atomic Safety and Licensing Board Panel.

[FR Doc. 02-9994 Filed 4-23-02; 8:45 am]

BILLING CODE 7590-01-P